DEPARTMENT OF ENERGY

Federal Energy Regulatory Commission

[Docket No. RP00-404-003]

Northern Natural Gas Company; Notice of Compliance Filing

March 8, 2002.

Take notice that on March 1, 2002, Northern Natural Gas Company (Northern), tendered for filing in its FERC Gas Tariff, Fifth Revised Volume No. 1 and Original Revised Volume No. 2, the following tariff sheets in compliance with the Commission's Order dated February 1, 2002:

Fifth Revised Volume No. 1

1st Revised 58 Revised Sheet No. 50

Substitute 59 Revised Sheet No. 50

Substitute 60 Revised Sheet No. 50

First Revised 59 Revised Sheet No. 51

Substitute 60 Revised Sheet No.51

Substitute 61 Revised Sheet No.51

1 Revised 26 Revised Sheet No. 52

Substitute 27 Revised Sheet No. 52

1 Revised 55 Revised Sheet No. 53

Substitute 56 Revised Sheet No.53

Substitute 57 Revised Sheet No. 53

1 Revised Eighth Revised Sheet No. 56

Substitute Ninth Revised Sheet No. 56

Substitute 10 Revised Sheet No. 56

1 Revised 19 Revised Sheet No. 59

1 Revised Third Revised Sheet No. 59A

First Revised 22 Revised Sheet No. 60

1 Revised Third Revised Sheet No. 60A

Ninth Revised Sheet No. 263

Fifth Revised Sheet No. 267

Sixth Revised Sheet No. 268

Original Sheet No. 268A

Second Revised Sheet No. 269A

Original Revised Volume No. 2

First Revised 166 Revised Sheet No. 1C

Substitute 167 Revised Sheet No. 1C

Northern further states that copies of the filing have been mailed to each of its customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6102 Filed 3-13-02; 8:45 am]

BILLING CODE 6717-01-P